DEPARTMENT OF THE INTERIOR

Office of Surface Mining Reclamation and Enforcement

[S1D1S SS08011000 SX064A000 256S180110; S2D2S SS08011000 SX064A000 25XS501520]

Notice of Availability of the Final Environmental Impact Statement for Navajo Transitional Energy Company's Federal Mining Plan Modification for Federal Lease MTM 94378

AGENCY: Office of Surface Mining Reclamation and Enforcement, Interior.

ACTION: Notice of availability of the final environmental impact statement.

SUMMARY: The Office of Surface Mining Reclamation and Enforcement (OSMRE) announces the availability of the final environmental impact statement (EIS) for Navajo Transitional Energy Company's (NTEC) Lease by Application 1 (LBA1) Federal Mining Plan Modification for Federal Lease MTM-94378 and MTM 110693 (the Project). Spring Creek Mine (SCM) is in Big Horn County, Montana, approximately 32 miles from Sheridan, Wyoming. The Project, as proposed, includes 162.5 acres of additional surface disturbance and recovery of an additional 39.9 million tons (Mt) of Federal coal.

DATES: The U.S. Environmental Protection Agency (EPA) will also publish a notice of availability (NOA) in the Federal Register. The Final EIS waiting period begins with the publication of EPA's NOA in the Federal Register and will last for 30 days. After the waiting period, OSMRE will select an alternative and issue the Record of Decision (ROD).

ADDRESSES: The Final EIS and documents pertinent to this proposal are available for review on OSMRE's website at: https://www.osmre.gov/laws-and-regulations/nepa/projects.

FOR FURTHER INFORMATION CONTACT: Marcelo Calle, Program Support Division Chief, OSMRE Western Regions 5, 7-11, P.O. Box 25065, Lakewood, CO 80225-0065; (303) 236-2929 or mcalle@osmre.gov.

Individuals who use telecommunication devices for the deaf (TDD) may call the Federal Information Relay Service (FIRS) at 1-800-877-8339 between 8 a.m. and 8 p.m., Eastern Time, Monday through Friday.

SUPPLEMENTARY INFORMATION:

Project Background

OSMRE has prepared a Final EIS for SCM's LBA1 mining plan modification for inclusion in its decision document recommending approval, disapproval, or conditional approval of the mining plan modification to the Secretary of the Department of the Interior (Secretary). 30 CFR 746.13. In accordance with the Mineral Leasing Act of 1920 (MLA), the Secretary must approve, disapprove, or conditionally approve the mining plan modification because it contains lands with leased Federal coal associated with MTM-94378 and MTM 110693. The Secretary has delegated this authority to the Assistant Secretary for Land and Minerals Management (ASLM).

OSMRE initially published an environmental assessment (EA) for LBA1 on October 3, 2016. This EA was challenged, and the United States District Court for the District of Montana held, in WildEarth Guardians v. Haaland, No. CV 17-80-BLG-SPW (D. Mont. 2021), that the EA failed to take a hard look at: indirect and cumulative effects of diesel emissions, noise, vibrations, and coal dust emissions; indirect effects of non-greenhouse gas from downstream combustion emissions; and effects related to the social costs of greenhouse gases. This Final EIS updates and expands on the environmental analysis in the 2016 EA and provides the additional impacts analysis identified as deficient by the district court.

The SCM is operated by NTEC under Permit SMP C1979012, which was issued by the Montana Department of Environmental Quality (MDEQ). As proposed, the Project includes 162.5 acres of additional surface disturbance and recovery of an additional 39.9 Mt of Federal coal.

Purpose and Need for the Proposed Action

OSMRE's purpose in preparing this Final EIS is to fully analyze the potential environmental impacts of the proposed Federal mining plan modification, with particular attention to addressing the deficiencies identified by the district court, so that OSMRE can make a recommendation to the ASLM to approve, disapprove, or conditionally approve the proposed Federal mining plan modification for LBA1. NTEC, the current operator, will not be able to access or recover the remaining Federal coal in the LBA1 tracts unless OSMRE completes its analysis under the National Environmental Policy Act and the ASLM approves the Federal mining plan modification.

Proposed Action and Alternatives

Under the Proposed Action, OSMRE would recommend to the ASLM to approve the mining plan modification as proposed. If approved by the ASLM, the Proposed Action would allow 162.5 acres of additional surface disturbance and the recovery of an additional 39.9 Mt of Federal coal in the LBA1 tracts over a period of approximately 16 years.

The Final EIS analyzes three additional alternatives:

• No Action: Under the No Action alternative, the Federal mining plan modification for the LBA1 tracts would not be approved, and SCM would no longer be authorized to mine Federal coal in the LBA1 tracts.

• Partial Mining Alternative: Under the Partial Mining alternative, ASLM-approval of the mining plan modification for the LBA1 tracts would end after a five-year term. As analyzed in this EIS, during this 5-year approval term, approximately 78.5 acres of surface disturbance and the recovery of 19.3 Mt of Federal coal from the LBA1 tracts are anticipated. Under the Partial Mining alternative, if the operator would like to continue mining beyond the initial 5-year term, the operator can apply for an additional mining plan modification.

• Accelerated Mining Rate Alternative: Under the Accelerated Mining Rate alternative, it is assumed that the remaining 39.9 Mt of coal would be mined from LBA1 tracts at a rate of 18 Mt per year, which reflects the rate of mining that was expected to occur in 2016 but is unlikely to occur under current market conditions. If approved by the ASLM, the Accelerated Mining Rate alternative would allow 162.5 acres of additional surface disturbance and the recovery of an additional 39.9 Mt of Federal coal from the LBA1 tracts, over a 2.2-year period.

Based on the analyses contained in the Final EIS, and, after carefully considering input received during scoping and the public comment period of the Draft EIS, OSMRE selected the Partial Mining alternative as the preferred alternative.

Summary of Expected Impacts

Reasonably foreseeable effects of mining Federal coal were evaluated for the following resources in the Final EIS:

• Air Quality (measured as concentration of criteria air pollutants regulated under the National Ambient Air Quality Standards, Hazardous Air Pollutants, and Air Quality Related Values such as visibility [haze] and atmospheric deposition)

• Emissions of greenhouse gases as they relate to climate change (measured in terms of carbon dioxide equivalent for both 20-year and 100-year global warming potentials)

• Surface water and groundwater quality and quantity

• Socio-economic effects (including changes to state and local taxes, royalties, fees, lease bids and bonuses, as well as payroll benefits as well as effects to Environmental Justice populations)

• Federally listed threatened/endangered species

• Geology

• Soils

• Cultural Resources

• Visual Resources

• Wildlife

Anticipated Permits and Authorizations

None.

Schedule for the Decision-Making Process

The OSMRE anticipates releasing a ROD in February 2025.

Public Participation

In addition to making the Draft EIS available for public comment, OSMRE hosted one public meeting during the comment period. OSMRE received 452 written comments, including comments from Federal and State agencies, non-governmental organizations, and members of the public. OSMRE addressed these comments in the Final EIS. OSMRE considered the public comments received on the Draft EIS and during internal OSMRE review and incorporated them as appropriate into the Final EIS. Public comments and internal OSMRE review resulted in the addition of clarifying text. The revisions and edits have not significantly changed the impact analyses.

Lead and Cooperating Agencies

OSMRE is the lead agency for this EIS. No agencies indicated an interest in being a cooperating agency on the EIS.

Decision Maker

Department of the Interior Assistant Secretary for Land and Minerals Management.

Nature of Decision To Be Made

OSMRE will take the analysis in the Final EIS into consideration as it makes a recommendation to the ASLM about the Federal mining plan modification associated with development of the LBA1 Federal coal tracts. The ASLM will consider OSMRE's recommendation to decide whether the mining plan modification is approved, disapproved, or approved with conditions. OSMRE's recommendation to the ASLM is based, at a minimum, on the documentation specified at 30 CFR 746.13.

David A. Berry,
Regional Director, Unified Regions, 5, 7-11.

[FR Doc. 2025-00410 Filed 1-10-25; 8:45 am]

BILLING CODE 4310-05-P